DEPARTMENT OF AGRICULTURE

Forest Service

Assessment Report of Ecological, Social and Economic Conditions, Trends and Sustainability for the Ashley National Forest

AGENCY: Forest Service, USDA.

ACTION: Notice of initiating the assessment phase of the forest plan revision for the Ashley National Forest.

SUMMARY: The Ashley National Forest (Forest), located in northeastern Utah and southwestern Wyoming, is initiating the first phase of the forest planning process pursuant to the National Forest System Land Management Planning rule (36 CFR part 219). This process will result in a revised forest land management plan (forest plan) which provides strategic direction for management of resources on the Ashley National Forest for the next ten to fifteen years. The first phase of the planning process involves assessing ecological, social and economic conditions and trends in the planning area and documenting the findings in an assessment report.

The assessment phase is just beginning on the Ashley National Forest and interested parties are invited to contribute to the development of the assessment. The Forest will be hosting public meetings to explain the revision process and invite the public to share information relevant to the assessment, including sources of existing information and local knowledge of current conditions and trends in the natural resources, social values, and goods and services produced by lands within the Ashley National Forest.

DATES: Public meetings to discuss development of the assessment will be held in July and August 2016. Dates, locations and agendas will be posted on the Forest Web site (www.fs.usda.gov/goto/AshleyForestPlan) and mailed to individuals and organizations on our mailing list. Another round of meetings is planned for November-December 2016, when a draft assessment is ready for public review. We expect to complete the assessment in the spring of 2017. Following completion of the assessment, the Forest will initiate procedures pursuant to the National Environmental Policy Act (NEPA) to prepare and evaluate a revised forest plan.

ADDRESSES: Written correspondence can be sent to: Ashley National Forest, Attn: Forest Plan, 355 N. Vernal Avenue, Vernal, UT 84078; or emailed to AshleyForestPlan@fs.fed.us.

FOR FURTHER INFORMATION CONTACT: Kathy Paulin, Forest Plan Revision Team Leader at the mailing address above; or call 435-781-5118. Individuals who use telecommunication devices for the deaf (TDD) may call the Federal Information Relay Service (FIRS) at 1-800-877-8339 between 8 a.m. and 8 p.m. Eastern Time, Monday through Friday. More information on our plan revision process is available on the Forest's planning Web site at www.fs.usda.gov/goto/AshleyForestPlan. You may also contact us by email at: AshleyForestPlan@fs.fed.us.

SUPPLEMENTARY INFORMATION: The National Forest Management Act (NFMA) of 1976 requires that every National Forest System (NFS) unit develop and periodically revise a forest plan. The procedures for doing this are in federal regulation (“Planning Rule,” 36 CFR 219) and in Forest Service directives. Forest plans provide strategic direction for managing forest resources for ten to fifteen years, and are adaptive and amendable as conditions change over time.

Under the Planning Rule, an assessment of ecological, social, and economic conditions and trends in the planning area is the first phase of a 3-phase planning process (36 CFR 219.6). The second phase is guided, in part, by the National Environmental Policy Act (NEPA). It includes preparation of a draft revised forest plan, one or more alternatives to the draft plan, and a draft environmental impact statement (DEIS) for public review and comment. This is followed by a final environmental impact statement (FEIS) and draft decision. The draft decision is subject to the objection procedures of 36 CFR part 219, subpart B, before it can be finalized. The third stage of the process is monitoring and feedback, which is ongoing over the life of the revised forest plan.

This notice announces the start of the Ashley National Forest's assessment process. The assessment will rapidly evaluate existing information about relevant ecological, economic, cultural and social conditions, trends and sustainability and their relationship to the current forest plan within the context of the broader landscape. The assessment does not include any decisions or require any actions on the ground. Its purpose is to provide a solid base of information that will be used to identify preliminary needs for change in the current forest plan, and to inform development of a revised plan.

With this notice, the Ashley National Forest invites other governments, non-governmental parties, and the public to contribute to assessment development. The intent of public participation during this phase is to identify as much relevant information as possible to inform the plan revision process. We also encourage contributors to share their concerns and perceptions of risk to social, economic, and ecological systems in or connected to the planning area.

As public engagement opportunities are scheduled, public announcements will be made and information will be posted on the Forest's Web site: www.fs.usda.gov/goto/AshleyForestPlan. To contribute information or ask to be added to our mailing list, please call 435-781-5118 or email AshleyForestPlan@fs.fed.us.

Responsible Official: The responsible official for the revision of the land management plan for the Ashley National Forest is the Forest Supervisor, John R. Erickson, Ashley National Forest, 355 N. Vernal Avenue, Vernal, UT 84078.

Dated: July 15, 2016.
John R. Erickson,
Forest Supervisor.

[FR Doc. 2016-17350 Filed 7-21-16; 8:45 am]

BILLING CODE 3411-15-P